DEPARTMENT OF COMMERCE

National Oceanic and Atmospheric Administration

RIN 0648-XF624

Pacific Fishery Management Council; Public Meeting

AGENCY: National Marine Fisheries Service (NMFS), National Oceanic and Atmospheric Administration (NOAA), Commerce.

ACTION: Notice of public meeting (conference call).

SUMMARY: The Pacific Fishery Management Council's (Pacific Council) Coastal Pelagic Species Advisory Subpanel (CPSAS) will hold a meeting via conference call that is open to the public.

DATES: The conference call will be held Wednesday, September 6, 2017, from 2 p.m. to 4 p.m. or until business for the day has been completed.

ADDRESSES: The meeting will be held via conference call. To attend the conference call, dial this toll free number: (866) 692-4538; enter participant code 2366028. A public listening station is available at the Pacific Council office (address below).

Council Address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is to discuss items on the Pacific Council's September 2017 meeting agenda. Major topics include, but are not limited to, (1) a draft Terms of Reference for the 2018 review of the National Oceanic and Atmospheric Administration's Acoustic-Trawl Survey Methodology Review Terms of Reference for coastal pelagic species stocks; and (2) the Ecosystem Workgroup Report on Fishery Ecosystem Plan Initiatives: Scoping and Selection. Both topics are to be considered at the September Council meeting, and the CPSAS may develop supplemental reports on these topics. The CPSAS may also address one or more of the Pacific Council's scheduled Administrative Matters including future meeting planning. Public comment may be taken at the discretion of the CPSAS Co-Chairs.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 days prior to the meeting date.

Dated: August 21, 2017.
Tracey L. Thompson,
Acting Deputy Director, Office of Sustainable Fisheries, National Marine Fisheries Service.

[FR Doc. 2017-17943 Filed 8-23-17; 8:45 am]

BILLING CODE 3510-22-P